DEPARTMENT OF ENERGY

Federal Energy Regulatory Commission

Combined Notice of Filings #1

Take notice that the Commission received the following electric corporate filings:

Docket Numbers: EC13-147-000

Applicants: Mehetia Inc.

Description: Section 203 Application of Mehetia Inc. for Authorization of Disposition of Jurisdictional Facilities, and Requests for Waivers of Certain Filing Requirements, Shortened Comment Period, Expedited Consideration, and Confidential Treatment.

Filed Date: 9/13/13

Accession Number: 20130913-5147

Comments Due: 5 p.m. ET 10/4/13

Take notice that the Commission received the following exempt wholesale generator filings:

Docket Numbers: EG13-57-000

Applicants: Genesis Solar, LLC

Description: Notice of Self-Certification of Exempt Wholesale Generator Status of Genesis Solar, LLC.

Filed Date: 9/16/13

Accession Number: 20130916-5078

Comments Due: 5 p.m. ET 10/7/13

Take notice that the Commission received the following electric rate filings:

Docket Numbers: ER05-168-003, EL05-19-004

Applicants: Southwestern Public Service Company

Description: Refund Report to be effective N/A to the August 15, 2013 Opinion 501-A to make Compliance Filing quantifying refunds relating to cost of service rates.

Filed Date: 9/16/13

Accession Number: 20130916-5161

Comments Due: 5 p.m. ET 10/7/13

Docket Numbers: ER06-274-007

Applicants: Southwestern Public Service Company

Description: Refund Report to be effective N/A to the August 15, 2013 Order on Initial Decision to make Compliance Filing quantifying refunds relating to cost of service rates.

Filed Date: 9/16/13

Accession Number: 20130916-5151

Comments Due: 5 p.m. ET 10/7/13

Docket Numbers: ER12-1865-002

Applicants: Mustang Hills, LLC

Description: Triennial Market Power Analysis for the Southwest Region of Mustang Hills, LLC.

Filed Date: 9/16/13

Accession Number: 20130916-5094

Comments Due: 5 p.m. ET 11/15/13

Docket Numbers: ER13-64-001

Applicants: PacifiCorp

Description: OATT Order 1000 Interregional Compliance Filing -NTTG to be effective 10/1/2015.

Filed Date: 9/17/13

Accession Number: 20130917-5000

Comments Due: 5 p.m. ET 10/16/13

Docket Numbers: ER13-65-001

Applicants: Deseret Generation & Transmission Co-operative

Description: OATT Order No. 1000 Interregional Compliance Filing to be effective 10/1/2015.

Filed Date: 9/16/13

Accession Number: 20130916-5144

Comments Due: 5 p.m. ET 10/16/13

Docket Numbers: ER13-67-001

Applicants: NorthWestern Corporation

Description: OATT Order No. 1000 Regional Compliance Filing—MT to be effective 10/1/2015.

Filed Date: 9/16/13

Accession Number: 20130916-5095

Comments Due: 5 p.m. ET 10/16/13

Docket Numbers: ER13-68-001

Applicants: Portland General Electric Company

Description: OATT Order No. 1000 Regional Compliance Filing to be effective 10/1/2015.

Filed Date: 9/16/13

Accession Number: 20130916-5117

Comments Due: 5 p.m. ET 10/16/13

Docket Numbers: ER13-2384-000

Applicants: Midcontinent Independent System Operator, Inc.

Description: 09-16-2013 SA 2006 Ameren-SEC WDS to be effective 3/30/2011.

Filed Date: 9/16/13

Accession Number: 20130916-5076

Comments Due: 5 p.m. ET 10/7/13

Docket Numbers: ER13-2385-000

Applicants: Midcontinent Independent System Operator, Inc.

Description: 09-16-13 Expansion of Advisory Committee to be effective 12/18/2013.

Filed Date: 9/16/13

Accession Number: 20130916-5096

Comments Due: 5 p.m. ET 10/7/13

Docket Numbers: ER13-2386-000

Applicants: Lakeswind Power Partners, LLC

Description: Application for Market-Based Rate Authority to be effective 11/15/2013.

Filed Date: 9/16/13

Accession Number: 20130916-5126

Comments Due: 5 p.m. ET 10/7/13

Docket Numbers: ER13-2387-000

Applicants: Duke Energy Florida, Inc.

Description: MBR Name Change to be effective 11/15/2013.

Filed Date: 9/16/13

Accession Number: 20130916-5145

Comments Due: 5 p.m. ET 10/7/13

Docket Numbers: ER13-2388-000

Applicants: Duke Energy Florida, Inc.

Description: Cancellation of Duke Energy Florida, Inc. Market-Based Rates Tariffs to be effective 11/15/2013.

Filed Date: 9/16/13

Accession Number: 20130916-5146

Comments Due: 5 p.m. ET 10/7/13

Docket Numbers: ER13-2389-000

Applicants: Glenwood Energy Partners, Ltd.

Description: Glenwood Energy Partners, Ltd. submits Glenwood Energy Partners Tariff Cancelation to be effective 9/17/2013.

Filed Date: 9/17/13

Accession Number: 20130917-5001

Comments Due: 5 p.m. ET 10/8/13

Docket Numbers: ER13-2390-000

Applicants: LoneStar Energy Partners LLC

Description: Lonestar Energy Partners Tariff Cancelation to be effective 9/17/2013.

Filed Date: 9/17/13

Accession Number: 20130917-5002

Comments Due: 5 p.m. ET 10/8/13

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 17, 2013.
Nathaniel J. Davis, Sr.,
Deputy Secretary.

[FR Doc. 2013-23166 Filed 9-23-13; 8:45 am]

BILLING CODE 6717-01-P